DEPARTMENT OF ENERGY

Hydrogen and Fuel Cell Technologies Office Research and Development Strategy Request for Information

AGENCY: Hydrogen and Fuel Cell Technologies Office (HFTO), Office of Energy Efficiency and Renewable Energy, Department of Energy (DOE).

ACTION: Request for information (RFI).

SUMMARY: The U.S. Department of Energy (DOE) invites public comment on its Request for Information (RFI) number DE-FOA-0002379 regarding the Hydrogen and Fuel Cell Technologies Office Research and Development Strategy. This RFI is issued by the Hydrogen and Fuel Cell Technologies Office (HFTO) within DOE's Office of Energy Efficiency and Renewable Energy (EERE) to understand how hydrogen and fuel cell research priorities and goals can address evolving technology needs and to inform related research, development, and demonstration (RD&D) activities that may be undertaken by DOE. The information being sought under this RFI is intended to assist HFTO in further defining the scope and priorities of its RD&D initiatives as well as its consortia that were established to address its priorities.

DATES: Responses to the RFI must be received no later than 5:00 p.m. (ET) on September 15, 2020.

ADDRESSES: Interested parties are invited to submit comments using the Online Response Collector found at the specified web link included in the RFI document. Alternatively, responses can be submitted as an attachment to an email addressed to HFTORFI@ee.doe.gov with “HFTO RFI” in the subject line. Email attachments can be provided as a Microsoft Word (.docx) file or an Adobe PDF (.pdf) file, prepared in accordance with the detailed instructions in the RFI. Documents submitted electronically should clearly indicate which topic areas and specific questions are being addressed, and should be limited to no more than 25 MB in size. The complete RFI [DE-FOA-0002379] document is located at https://eere-exchange.energy.gov/.

FOR FURTHER INFORMATION CONTACT: Questions may be addressed to HFTORFI@ee.doe.gov or to Nancy Garland at 202-586-5673. Further instruction can be found in the RFI document posted on EERE Exchange at https://eere-exchange.energy.gov/.

SUPPLEMENTARY INFORMATION: The purpose of the RFI is to obtain public input on HFTO's efforts to accelerate research, development, demonstration, commercialization, and adoption of hydrogen and fuel cell technologies. The information being sought under this RFI is intended to address evolving technologies needs by assisting HFTO in further defining the scope and priorities of its RD&D initiatives and as well as its consortia that were established to address its priorities. More specifically, HFTO request feedback on the following specific areas of interest outlined in the RFI:

1. The H2@Scale Initiative, an initiative supporting innovations to produce, store, transport, and use hydrogen across multiple sectors;

2. the HFTO Strategy and Multiyear Plan;

3. Priority Application Focus Areas, including integrated energy systems, heavy-duty transportation applications, and industrial and chemical applications; and

4. Funding Mechanisms and Opportunities, including lab calls, CRADA, FOAs, and consortia models.

Specific questions can be found in the RFI. The RFI is available at: https://eere-exchange.energy.gov/.

Confidential Business Information: Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email or on a CD, if feasible. DOE will make its own determination about the confidential status of the information and treat it according to its determination.

Signing Authority: This document of the Department of Energy was signed on August 6, 2020, by Sunita Satyapal, Director, Hydrogen and Fuel Cells Technology Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the U.S. Department of Energy. This administrative process in no way alters the legal effect of this document upon publication in the Federal Register.

Signed in Washington, DC, on August 6, 2020.
Treena V. Garrett,
Federal Register Liaison Officer, U.S. Department of Energy.

[FR Doc. 2020-17544 Filed 8-11-20; 8:45 am]

BILLING CODE 6450-01-P